ENVIRONMENTAL PROTECTION AGENCY

[FRL-9798-8]

Clean Water Act: Availability of List Decisions

AGENCY: Environmental Protection Agency (EPA).

ACTION: Notice and initial request for public input.

SUMMARY: The Clean Water Act requires that States periodically submit, and EPA approve or disapprove, lists of waters (called “Section 303(d) lists”) for which existing technology-based pollution controls are not stringent enough to attain or maintain State water quality standards and for which total maximum daily loads (TMDLs) must be prepared. Waters identified on Section 303(d) lists are called “water quality limited segments.” This notice announces EPA's proposal to include in West Virginia's Section 303(d) list certain water quality limited segments and requests public comment.

On March 25, 2012 EPA partially approved West Virginia's 2012 Section 303(d) list of water quality limited segments and associated pollutants and partially disapproved West Virginia's submission to the extent that West Virginia did not identify certain water quality limited segments. EPA proposes to identify these additional water quality limited segments for inclusion on the State's 2012 section 303(d) list. The proposed water quality limited segments are identified in Enclosure 3 of the decision document available at the Web site link provided below.

EPA is providing the public the opportunity to review its decision to add these water quality limited segments to West Virginia's 2012 Section 303(d) list. EPA will consider public comments before transmitting its final listing decision to the State.

DATES: Comments must be submitted in writing to EPA on or before May 8, 2013.

ADDRESSES: Comments on the proposed decision should be sent to Bill Richardson, Water Protection Division (3WP30), U.S. Environmental Protection Agency Region 3, 1650 Arch Street, Philadelphia, PA 19103-2029 telephone (215) 814-5675, facsimile (215) 814-2318, email Richardson.william@epa.gov. mailto: Oral comments will not be considered. Copies of EPA's letter concerning West Virginia's list that explains the rationale for EPA's decision can be obtained at EPA Region 3's Web site at http://www.epa.gov/reg3wapd/tmdl/303list.html or by writing Mr. Richardson at the above address. Underlying documents from the administrative record for these decisions are available for public inspection at the above address. Please contact Mr. Richardson to schedule an inspection.

FOR FURTHER INFORMATION CONTACT: For additional information, contact Bill Richardson at (215) 814-5675.

SUPPLEMENTARY INFORMATION: Section 303(d) of the Clean Water Act requires that each State identify those waters (called “water quality limited segments”) for which existing technology-based pollution controls are not stringent enough to attain or maintain State water quality standards. For those waters, States are required to establish TMDLs according to a priority ranking.

EPA's Water Quality Planning and Management regulations include requirements related to the implementation of Section 303(d) of the CWA (40 CFR 130.7). The regulations require States to assemble and evaluate existing and readily available water quality data and to identify water quality limited waters still requiring TMDLs every two years. The lists of waters still needing TMDLs must also include priority rankings and must identify the waters targeted for TMDL development during the next two years (40 CFR 130.7).

Consistent with EPA's regulations, EPA received West Virginia's submittal of its listing decisions under Section 303(d)(2) on December 21, 2012. On March 25, 2013, EPA partially approved West Virginia's 2012 listings of waters and associated priority rankings and partially disapproved West Virginia's submission to the extent that West Virginia did not list 255 water quality limited segments. EPA solicits public comment on the addition of these waters to the State's list, as required by 40 CFR 130.7(d)(2).

Dated: March 28, 2013.
Jon M. Capacasa,
Water Protection Division, U.S. Environmental Protection Agency, Region III.

[FR Doc. 2013-08119 Filed 4-5-13; 8:45 am]

BILLING CODE 6560-50-P